INTERNATIONAL TRADE COMMISSION

[Investigation Nos. 731-TA-1362-1367 (Final)]

Cold-Drawn Mechanical Tubing From China, Germany, India, Italy, Korea, and Switzerland; Supplemental Schedule for the Subject Investigations

AGENCY: United States International Trade Commission.

ACTION: Notice.

DATES: April 16, 2018.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 25, 2017, the Commission established a general schedule for the conduct of the final phase of its investigations on cold-drawn mechanical tubing from China, Germany, India, Italy, Korea, and Switzerland,¹ following preliminary determinations by the U.S. Department of Commerce (“Commerce”) that imports of cold-drawn mechanical tubing were subsidized by the governments of China and India. To date, Commerce has issued final affirmative countervailing duty determinations with respect to cold-drawn mechanical tubing from China and India ² and most recently final affirmative antidumping duty determinations with respect to China, Germany, India, Italy, Korea, and Switzerland.³ The Commission, therefore, is issuing a supplemental schedule for its antidumping duty investigations on imports of cold-drawn mechanical tubing from China, Germany, India, Italy, Korea, and Switzerland.

¹ Cold-Drawn Mechanical Tubing From China, Germany, India, Italy, Korea, and Switzerland; Scheduling of the Final Phase of Countervailing Duty and Antidumping Duty Investigations, 82 FR 46522, October 5, 2017.

² Countervailing Duty Investigation of Cold-Drawn Mechanical Tubing of Carbon and Alloy Steel From the People's Republic of China: Final Affirmative Determination, and Final Affirmative Determination of Critical Circumstances, in Part, 82 FR 58175, December 11, 2017; and Certain Cold-Drawn Mechanical Tubing of Carbon and Alloy Steel From India: Final Affirmative Countervailing Duty Determination, 82 FR 58172, December 11, 2017.

³ Certain Cold-Drawn Mechanical Tubing of Carbon and Alloy Steel From the People's Republic of China: Affirmative Final Determination of Sales at Less-Than-Fair Value and Final Determination of Critical Circumstances, in Part, 83 FR 16322, April 16, 2018; Certain Cold-Drawn Mechanical Tubing of Carbon and Alloy Steel From the Federal Republic of Germany: Final Affirmative Determination of Sales at Less Than Fair Value, 83 FR 16326, April 16, 2018; Certain Cold-Drawn Mechanical Tubing of Carbon and Alloy Steel From India: Final Affirmative Determination of Sales at Less than Fair Value, 83 FR 16296, April 16, 2018; Certain Cold-Drawn Mechanical Tubing of Carbon and Alloy Steel From Italy: Final Determination of Sales at Less Than Fair Value and Final Affirmative Determination of Critical Circumstances, in Part, 83 FR 16289, April 16, 2018; Certain Cold-Drawn Mechanical Tubing of Carbon and Alloy Steel From the Republic of Korea: Final Affirmative Determination of Sales at Less Than Fair Value, Final Affirmative Determination of Critical Circumstances, 83 FR 16319, April 16, 2018; and Certain Cold-Drawn Mechanical Tubing of Carbon and Alloy Steel From Switzerland: Final Determination of Sales at Less Than Fair Value, 83 FR 16293, April 16, 2018.

The Commission's supplemental schedule is as follows: The deadline for filing supplemental party comments on Commerce's final determinations is April 27, 2018; the staff report in the final phase of these investigations will be placed in the nonpublic record on May 10, 2018; and a public version will be issued thereafter.

Supplemental party comments may address only Commerce's final antidumping duty determinations regarding cold-drawn mechanical tubing from China, Germany, India, Italy, Korea, and Switzerland. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: April 17, 2018.
Lisa Barton,
Secretary to the Commission.

[FR Doc. 2018-08396 Filed 4-20-18; 8:45 am]

BILLING CODE 7020-02-P